DEPARTMENT OF AGRICULTURE

Forest Service

Idaho Panhandle/Kootenai/Lolo National Forests Grizzly Bear Forest Plan Amendment; Idaho Panhandle, Kootenai and Lolo National Forests; Lincoln and Sanders Counties, MT; Boundary and Bonner Counties; Idaho; and Pend Oreille County, WA

AGENCY: Forest Service, USDA.

ACTION: Notice of intent to prepare environmental impact statement to amend land and resource management plans for the Idaho Panhandle, Kootenai, and Lolo National Forests.

SUMMARY: The Forest Supervisors of the Idaho Panhandle, Kootenai and Lolo National Forests give notice of the agency's intent to prepare an environmental impact statement (EIS) in conjunction with the establishment of new management direction for the grizzly bear within the Selkirk and Cabinet/Yaak Grizzly Bear Recovery Zones. The Forest Service has identified the need to update management direction, based on new information regarding grizzly bear biology.

DATES: Comments concerning the scope of the analysis should be postmarked by June 11, 2001. The agency expects to file a draft EIS with the Environmental Protection Agency (EPA) and make it available for public, agency, and tribal government comment in the summer of 2001. A final EIS is expected to be filed in February 2002.

ADDRESSES: Send written comments to Bob Castaneda, Forest Supervisor, Kootenai National Forest, 1101 US Hwy 2 West, Libby, MT 59923.

FOR FURTHER INFORMATION CONTACT: Rob Carlin, Grizzly Bear Plan Amendment Interdisciplinary Team Leader (406) 882-4451.

Responsible Officials: Pat Aguilar, Idaho Panhandle National Forests—Acting Forest Supervisor; Bob Castaneda, Kootenai National Forests—Forest Supervisor; and Deborah Austin, Lolo National Forest—Forest Supervisor.

SUPPLEMENTARY INFORMATION: In 1998, the Selkirk/Cabinet-Yaak grizzly Bear Subcommittee recommended new access management direction to aid in the recovery of the threatened grizzly bear within the Selkirk/Cabinet-Yaak Grizzly Bear Recovery Zones. This direction was titled the “Interim Access Management Strategy”. Additional information was provided in an “Interim Access Management Rule Set.” This new direction is based on new information regarding grizzly bear habitat needs, including the need for core security areas. The purpose for the amendment is to update Forest Plan management direction to respond to the recommendations and new information presented by the Selkirk/Cabinet Yaak Grizzly Bear Subcommittee.

Proposed Action

The Forest Supervisors are proposing to amend their respective Forest Plans regarding Forest Plan standards and monitoring requirements that respond to the recommendations of the Interim Access Management Strategy and Interim Access Management Rule Set. The decision to be made is whether to adopt the proposed action as designed, with different requirements, or not at all.

This amendment would result in a new appendix to the Idaho Panhandle and Lolo National Forest Land and Resource Management Plans (Forest Plans). It will be an addendum to the Kootenai National Forest, Forest Plan, Appendix 8.

The Interim Access Management Strategy and Interim Access Management Rule Set comprise a set of access related guidelines developed over the past few years by the Selkirk/Cabinet-Yaak Subcommittee of the Interagency Grizzly Bear Committee (IGBC). The guidelines address the following access management parameters: (1) Habitat security, (2) core area, (3) trial use of access related to habitat quality/season, (4) motorized access route density, (5) monitoring, and (6) coordination with state wildlife agencies. The Rule Set also clearly discloses definitions of terminology related to each specific parameter. The complete text of these two documents is available on the IGBC internet website at http://www.fs.fed.us/r1/wildlife/igbc/scy/main.htm. Copies may also be requested by contacting Rob Carlin, ID Team Leader, at 406-882-4451.

Preliminary Issues and Alternatives

Some preliminary issues have already been identified and are listed below. These issues apply only to National Forest System lands on the units listed previously in this notice.

The interim access management strategy and rule set may affect the ability to use roads and trails, the construction of roads and trails, and the closure and decommissioning of roads and trails. This potentially influences activities such as timber harvest, recreation use, administrative management activities, and other uses associated with Forest Service roads and trails.

The interim access management strategy and rule set did not recommend standards for total and open motorized route density. Therefore, some people are concerned that the strategy and rule set do not fully address the habitat needs of grizzly bears.

Public Involvement

The first public participation efforts involving the Interim Access Management Strategy and Rule Set began in the spring and summer of 1997 with a series of seven workshops held throughout Washington, Idaho, and Montana. Nearly 300 individuals either sent letters or asked to be placed on the project mailing list. The key public concerns identified at the workshops were: (1) The need to consider habitat needs in relation to timing of road access restrictions; (2) the need to consider hunting regulations and law enforcement; and (3) the need to consider access options to provide the public a reasonable level of access to the National Forests.

The Forest Supervisors are giving notice that the Idaho Panhandle, Kootenai, and Lolo National Forests are beginning an environmental analysis and decision-making process for this proposed action so that interested or affected people can participate in the analysis and contribute to the final decision. The Forest Service is seeking comments from individuals, organizations, tribal governments, and Federal, State, and local agencies that are interested or may be affected by the proposed action. The public is invited to help identify issues that define the range of alternatives to be considered in the environmental impact statement. The range of alternatives considered in the DEIS will be based on the issues and specific decisions to be made. Written comments identifying issues for analysis and the range of alternatives are encouraged.

Estimated Dates for Filing

The draft EIS is expected to be filed with the EPA and to be available for public review in the summer of 2001. The comment period on the draft environmental impact statement will be 90 days from the date the EPA publishes the Notice of Availability in the Federal Register.

The final EIS is scheduled to be completed by February 2002. In the final EIS, the Forest Service is required to respond to comments received during the comment period that pertain to the environmental consequences discussed in the draft EIS and applicable laws, regulations, and policies considered in making a decision regarding the proposal.

The Reviewer's Obligation To Comment

The Forest Service believes it is important to give reviewers notice at this early stage of several court rulings related to public participation in the environmental review process. First, reviewers of draft environmental impact statements must structure their participation in the environmental review of the proposal so that it is meaningful and alerts an agency to the reviewer's position and contentions [Vermont Yankee Nuclear Power Corp. v. NRDC, 435 U.S. 519, 553 (1978)]. Also, environmental objections that could be raised at the draft environmental impact statement stage but that are not raised until after completion of the final environmental impact statement may be waived or dismissed by the courts [Wisconsin Heritages, Inc. v. Harris, 490 F. Supp. 1334, 1338 (E.D. Wis. 1980)]. Because of these court rulings, it is very important that those interested in this proposed action participate by the close of the 90-day comment period so that substantive comments and objects are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the Natural Environmental Policy Act at 40 CFR 1503.3 in addressing these points.

Dated: April 24, 2001.
Bob Castaneda,
Forest Supervisor—Kootenai National Forest.

[FR Doc. 01-11813 Filed 5-10-01; 8:45 am]

BILLING CODE 3410-11-M